DEPARTMENT OF HOMELAND SECURITY

Coast Guard

33 CFR Part 117

[CGD08-04-025]

Drawbridge Operation Regulations; Rigolets Pass, New Orleans, LA

AGENCY: Coast Guard, DHS.

ACTION: Notice of temporary deviation from regulations.

SUMMARY: The Commander, Eighth Coast Guard District, has issued a temporary deviation from the regulation governing the operation of the U.S. 90 Swing Bridge across the Rigolets Pass, mile 6.2 between New Orleans, Orleans Parish and St. Tammany Parish, Louisiana. This deviation allows the bridge to remain closed to navigation from Monday, July 26, 2004 until Thursday, July 29, 2004. The deviation is necessary to repair and replace electrical conduit on the bridge.

DATES: This deviation is effective from 8 a.m. on Monday, July 26, 2004 until 4 a.m. on Thursday, July 29, 2004.

ADDRESSES: Materials referred to in this document are available for inspection or copying at the office of the Eighth Coast Guard District, Bridge Administration Branch, Hale Boggs Federal Building, room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The Louisiana Department of Transportation and Development (LDOTD) has requested a temporary deviation in order to remove and replace electrical conduit on the U.S. 90 Swing Bridge across the Rigolets Pass, Mile 6.2, between New Orleans, Orleans Parish and St. Tammany Parish, Louisiana. The repairs are necessary to ensure the safe operation of the bridge. This temporary deviation will allow the bridge to remain in the closed-to-navigation position from 8 a.m. on Monday, July 26, 2004 until 4 a.m. on Thursday, July 29, 2004.

The bridge has a vertical clearance of 14 feet above mean high water in the closed-to-navigation position and unlimited clearance in the open-to-navigation position. Navigation at the site of the bridge consists mainly of commercial and recreational fishing vessels and recreational pleasure craft. Due to prior experience, as well as coordination with waterway users, it has been determined that this closure will not have a significant effect on these vessels. Alternate routes are available through the Chef Menteur Pass. The bridge will not be able to open for emergencies; however, work will be postponed if a tropical weather system is approaching.

In accordance with 33 CFR 117.35(c), this work will be performed with all due speed in order to return the bridge to normal operation as soon as possible. This deviation from the operating regulations is authorized under 33 CFR 117.35.

Dated: June 30, 2004.
Marcus Redford,
Bridge Administrator.

[FR Doc. 04-15846 Filed 7-12-04; 8:45 am]

BILLING CODE 4910-15-P